DEPARTMENT OF AGRICULTURE

Food and Nutrition Service

Agency Information Collection Activities: Proposed Collection; Comment Request—Form FNS-143, Claim for Reimbursement (Summer Food Service Program)

AGENCY: Food and Nutrition Service, USDA.

ACTION: Notice and request for comments.

SUMMARY: In accordance with the Paperwork Reduction Act of 1995, this notice invites the general public to comment on the proposed information collection. The Food and Nutrition Service (FNS) uses the SFSP Claim for Reimbursement Form, FNS-143 to collect data to determine the amount of reimbursement sponsoring organizations participating in the Summer Food Service Program (SFSP) are eligible to receive.

DATES: Written comments on this notice must be received or postmarked by September 18, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Melissa Rothstein, Chief, Program Analysis and Monitoring Branch, Child and Nutrition Division, Food and Nutrition Service, USDA, 3101 Park Center Drive, Room 640, Alexandria, Virginia 22302. Comments may also be submitted via fax to the attention of Melissa Rothstein at (703) 305-2879 or via e-mail to melissa.rothstein@fns.usda.gov.

All written comments will be open for public inspection at the office of the Food and Nutrition Service during regular business hours (8:30 a.m. to 5 p.m., Monday through Friday) at 3101 Park Center Drive, Alexandria, Virginia 22302, Room 640.

All responses to this notice will be summarized and included in the request for OMB approval. All comments will be a matter of public record.

FOR FURTHER INFORMATION CONTACT: Requests for additional information or copies of this information collection should be directed to Melissa Rothstein at (703) 305-2590.

SUPPLEMENTARY INFORMATION: Title: Summer Food Service Program Claim for Reimbursement.

OMB Numbers: 0584-0041.

Expiration Date: October 31, 2006.

Type of Request: Revision of a currently approved information collection.

Abstract: The SFSP Claim for Reimbursement, Form FNS-143, is used to collect data on the number of meals served and cost data from sponsoring organizations whose participation in this program is administered directly by FNS Regional Office, commonly known as Regional Office Administered Program or ROAP. The FNS Regional Office directly administers participation of the SFSP for sponsoring organizations in Virginia. In order to determine the amount of reimbursement sponsoring organizations are entitled to receive for meals served, they must complete the form. The completed forms are either sent to the Child Nutrition Payments Center at the FNS Mid-Atlantic Regional Office where they are entered into a computerized payment system or sponsoring organizations may submit forms electronically via the Internet directly into the Child Nutrition Payments Center. The payment system computes earned reimbursement.

Earned reimbursement in the SFSP is based on performance and is determined by comparing an assigned rate for operations and for administration per meal served to actual operational and administrative costs. To fulfill the earned reimbursement requirements set forth in SFSP regulations issued by the Secretary of Agriculture (7 CFR 225.9), the meal and cost data must be collected on form FNS-143.

The form is an intrinsic part of the accounting system currently being used by the subject program to ensure proper reimbursement as well as to facilitate adequate recordkeeping.

Respondents: The respondents are sponsoring organizations participating in the SFSP under the auspices of the FNS ROAP.

Reporting Burden

Estimated Total Number of Respondents: 123.

Estimated Number of Responses per Respondent: 5.

Estimated Hours per Response: .5.

Estimated Annual Reporting Burden Hours: 307.5.

Estimated Total Number of Respondents: 123.

Recordkeeping Burden

Estimated Number of Responses per Respondent: 5.

Estimated Hours per Response: .1875.

Estimated Annual Recordkeeping Burden Hours: 115.31.

Total Annual Reporting and Recordkeeping Burden: 423.

Dated: July 7, 2006.
Roberto Salazar,
Administrator, Food and Nutrition.

[FR Doc. E6-11435 Filed 7-18-06; 8:45 am]

BILLING CODE 3410-30-P